OFFICE OF PERSONNEL MANAGEMENT

5 CFR Part 532

RIN 3206-AL45

Prevailing Rate Systems; North American Industry Classification System Based Federal Wage System Wage Area

AGENCY: U.S. Office of Personnel Management.

ACTION: Final rule.

SUMMARY: The U.S. Office of Personnel Management is issuing a final rule to update the 2002 North American Industry Classification System (NAICS) codes currently used in Federal Wage System wage survey industry regulations with the 2007 NAICS revisions published by the Office of Management and Budget.

DATES: Effective date: This rule is effective September 8, 2008.

Applicability date: This rule applies for local wage surveys beginning on or after November 1, 2008.

FOR FURTHER INFORMATION CONTACT: Madeline Gonzalez, (202) 606-2838; e-mail pay-performance-policy@opm.gov; or Fax: (202) 606-4264.

SUPPLEMENTARY INFORMATION: On January 17, 2008, the U.S. Office of Personnel Management (OPM) issued a proposed rule (73 FR 3220) to update the 2002 North American Industry Classification System (NAICS) codes currently used in Federal Wage System wage survey industry regulations with the 2007 NAICS revisions published by the Office of Management and Budget (OMB). These final regulations use 2007 NAICS codes. As OMB continues to update the NAICS periodically, we will update these regulations to correspond to the updated NAICS codes based on advice we receive from the Federal Prevailing Rate Advisory Committee.

The proposed rule had a 30-day comment period, during which OPM received no comments. However, the final rule incorporates three additional minor changes that are consistent with the intent of the proposed rule. First, OMB's NAICS revisions for 2007 divide 2002 NAICS 54171, Research and development in the physical, engineering, and life sciences, into two parts—NAICS 541711, Research and development in biotechnology, and NAICS 541712, Research and development in the physical, engineering, and life sciences (except biotechnology). We are changing NAICS 54171 to NAICS 541712 in the aircraft and guided missiles specialized industries in section 532.313 of title 5, Code of Federal Regulations, because private sector establishments involved in DNA research, cloning, and nanobiotechnology do not have blue-collar jobs comparable to the aircraft and guided missiles industries. Second, OMB's NAICS revisions for 2007 change NAICS 5173, Telecommunications resellers, to NAICS 517911, Telecommunications resellers. We are deleting NAICS 5173 from the artillery and combat vehicles and communications specialized industries and adding NAICS 517911 to the artillery and combat vehicles industry. We are also changing NAICS 5179 in the communications specialized industry to NAICS 517911 to better match NAICS wage industry coverage with actual blue-collar jobs in the communications industry. Third, OMB's NAICS revisions for 2007 also change NAICS 5175, Cable and other program distribution, to NAICS 5171. We are deleting NAICS 5175 from the communications industry. The communications industry already includes NAICS 5171. We inadvertently overlooked these industries in the proposed rule.

This final regulation is effective 30 days after publication. However, to provide the lead agency (the Department of Defense) with sufficient time and a fixed date for planning surveys and implementing changes required by the new industry classification system, the regulation is applicable for wage surveys ordered to begin on or after November 1, 2008.

Regulatory Flexibility Act

I certify that these regulations will not have a significant economic impact on a substantial number of small entities because they will affect only Federal agencies and employees.

E.O. 12866, Regulatory Review

The Office of Management and Budget has reviewed this final rule in accordance with Executive Order 12866.

List of Subjects in 5 CFR Part 532

Administrative practice and procedure, Freedom of information, Government employees, Reporting and recordkeeping requirements, Wages.

Office of Personnel Management.
Linda M. Springer,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

§ 532.213 [Amended]

2. In § 532.213, amend the table titles in both columns by replacing the year “2002” with “2007.”

§ 532.221 [Amended]

3. In § 532.221, amend the table titles in both columns by replacing the year “2002” with “2007.”

§ 532.267 [Amended]

4. In § 532.267(c)(1), amend the table titles in both columns by replacing the year “2002” with “2007” and add NAICS code “334515” in the first column in numerical order and “Instrument manufacturing for measuring and testing electricity and electrical signals” in the second column.

§ 532.285 [Amended]

5. In § 532.285(c)(1), amend the table titles in both columns by replacing the year “2002” with “2007.”

§ 532.313 [Amended]

6. In § 532.313(a), amend the table as follows:

a. Replace the year “2002” with “2007” in the table titles in both columns;

b. Add NAICS code “334515” in the first column in numerical order and “Instrument manufacturing for measuring and testing electricity and electrical signals” in the second column to the list of required NAICS codes for the Electronics Specialized Industry, Guided Missiles Specialized Industry, and Sighting and Fire Control Equipment Specialized Industry;

c. Remove NAICS code “5173” in the first column and “Telecommunications resellers” in the second column from the list of required NAICS codes for the Artillery and Combat Vehicles Specialized Industry and Communications Specialized Industry;

d. Remove NAICS code “5175” in the first column and “Cable and other program distribution” in the second column from the list of required NAICS codes for the Communications Specialized Industry;

e. Remove NAICS code “5179” in the first column and “Other telecommunications” in the second column from the list of required NAICS codes for the Communications Specialized Industry;

f. Add NAICS code “517911” in the first column in numerical order and “Telecommunications resellers” in the second column to the list of required NAICS codes for the Artillery and Combat Vehicles Specialized Industry and Communications Specialized Industry;

g. Replace NAICS code “54171” in the first column and “Research and development in the physical, engineering, and life sciences” in the second column with NAICS code “541712” in the first column and “Research and development in the physical, engineering, and life sciences (except biotechnology)” in the second column in the list of required NAICS codes for Aircraft Specialized Industry and Guided Missiles Specialized Industry; and

h. Remove NAICS code “81299” in the first column and “All other personal services” in the second column from the list of required NAICS codes for the Artillery and Combat Vehicle Specialized Industry.

[FR Doc. E8-18244 Filed 8-6-08; 8:45 am]

BILLING CODE 6325-39-P